Memorandum of June 21, 2024

Delegation of Authority Under Section 1247 of the National Defense Authorization Act for Fiscal Year 2024

Memorandum for the Secretary of State

By the authority vested in me as President by the Constitution and the laws of the United States of America, including section 301 of title 3, United States Code, I hereby delegate to the Secretary of State the authority under section 1247(e) of the National Defense Authorization Act for Fiscal Year 2024 (Public Law 118-31) (the “Act”) to submit to the appropriate committees of the Congress, as defined in section 1247(f) of the Act:

(a) the strategy authorized by section 1247(b) of the Act; and

(b) the authority and resourcing assessment required by section 1247(d) of the Act.

The delegation in this memorandum shall apply to any provision of any future public law that is the same or substantially the same as the provision referenced in this memorandum.

You are authorized and directed to publish this memorandum in the Federal Register.

THE WHITE HOUSE,

Washington, June 21, 2024

[FR Doc. 2024-15478

Filed 7-11-24; 8:45 am]

Billing code 4710-10-P